DEPARTMENT OF AGRICULTURE

Animal and Plant Health Inspection Service

[Docket No. APHIS-2022-0048]

Notice of Request for Approval of an Information Collection; Handling Swine With Potential Vesicular Disease

AGENCY: Animal and Plant Health Inspection Service, USDA.

ACTION: New information collection; comment request.

SUMMARY: In accordance with the Paperwork Reduction Act of 1995, this notice announces the Animal and Plant Health Inspection Service's intention to request approval of a new information collection associated with the handling of swine with potential vesicular disease.

DATES: We will consider all comments that we receive on or before November 29, 2022.

ADDRESSES: You may submit comments by either of the following methods:

• Federal eRulemaking Portal: Go to www.regulations.gov. Enter APHIS-2022-0048 in the Search field. Select the Documents tab, then select the Comment button in the list of documents.

• Postal Mail/Commercial Delivery: Send your comment to Docket No. APHIS-2022-0048, Regulatory Analysis and Development, PPD, APHIS, Station 3A-03.8, 4700 River Road Unit 118, Riverdale, MD 20737-1238.

Supporting documents and any comments we receive on this docket may be viewed at www.regulations.gov or in our reading room in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the activities associated with handling swine with potential vesicular disease, contact Dr. Lisa Rochette, Assistant Director, Swine Health Program, Aquaculture, Swine, Equine, and Poultry Health Center, Strategy and Policy, VS, APHIS, 920 Main Campus Drive, Suite 200, Raleigh, NC 27606; office phone: (919) 855-7276; cell: (801) 879-5156; email: lisa.t.rochette@usda.gov. For detailed information on the information collection reporting process, contact Mr. Joseph Moxey, APHIS' Paperwork Reduction Act Coordinator, at (301) 851-2483; joseph.moxey@usda.gov.

SUPPLEMENTARY INFORMATION:

Title: Handling Swine With Potential Vesicular Disease.

OMB Control Number: 0579-XXXX.

Type of Request: Approval of a new information collection.

Abstract: Under the Animal Health Protection Act (7 U.S.C. 8301 et seq.), the Secretary of the U.S. Department of Agriculture (USDA) is authorized to protect the health of the livestock, poultry, and aquaculture populations in the United States by preventing the introduction and interstate spread of serious diseases and pests of livestock, poultry, and aquaculture, and for eradicating such diseases and pests from the United States when feasible. Within the USDA, this authority and mission is delegated to Veterinary Services (VS) within the Animal and Plant Health Inspection Service (APHIS).

Part of VS' mission is preventing foreign animal disease outbreaks in the United States, and monitoring, controlling, and eliminating a disease outbreak should one occur. Regarding swine, any swine having vesicular lesions are suspected of having a foreign animal disease (FAD), such as foot-and-mouth disease (FMD), until determined otherwise by VS through authorized testing at approved National Animal Health Laboratory Network laboratories with oversight and confirmatory testing, if required, by the Foreign Animal Disease Diagnostic Laboratory.

Several viral pathogens may cause vesicular lesions in swine, including FMD virus, swine vesicular disease virus, vesicular stomatitis virus, and Seneca Valley A virus. Veterinarians are unable to differentiate the etiology of these gross lesions without diagnostic testing. Therefore, vesicular lesions on swine should be reported by State, Federal, and accredited veterinarians to ensure rapid detection of FMD or any other FAD, if introduced. Reporting and rapid detection protects the health and marketability of our nation's livestock health and meat products and generates public confidence. Information collection activities associated with reporting and rapid detection include notifiable swine disease reporting, National Animal Health Reporting System, monthly State and Area Veterinarian In Charge reports, and FAD data collection and investigations.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.5 hours per response.

Respondents: Accredited and State veterinarians, laboratory personnel, farmers and other agricultural managers, and State animal health officials.

Estimated annual number of respondents: 75.

Estimated annual number of responses per respondent: 176.

Estimated annual number of responses: 13,200.

Estimated total annual burden on respondents: 6,900 hours. (Due to averaging, the total annual burden hours may not equal the product of the annual number of responses multiplied by the reporting burden per response.)

All responses to this notice will be summarized and included in the request for OMB approval. All comments will also become a matter of public record.

Done in Washington, DC, this 26th day of September 2022.
Anthony Shea,
Administrator, Animal and Plant Health Inspection Service.

[FR Doc. 2022-21233 Filed 9-29-22; 8:45 am]

BILLING CODE 3410-34-P